DEPARTMENT OF THE INTERIOR

Fish and Wildlife Service

[FWS-R2-ES-2010-N221; 20124-1113-0000-F5]

Endangered and Threatened Species Permit Applications

AGENCY: Fish and Wildlife Service, Interior.

ACTION: Notice of receipt of applications; request for public comment.

SUMMARY: The following applicants have applied for scientific research permits, or the Fish and Wildlife Service is amending their existing permit, to conduct certain activities with endangered species under the Endangered Species Act of 1973, as amended (Act). The Act requires that we invite public comment on these permit applications.

DATES: To ensure consideration, written comments must be received on or before December 3, 2010.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave. SW., Room 6034, Albuquerque, NM 87102. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-24623A

Applicant: Miller Park Zoo, Bloomington, Illinois.

Applicant requests a new permit for research and recovery purposes to hold Mount Graham red squirrels (Tamiasciurus hudsonicus grahamensis) in captivity. The applicant's intended purpose is breeding, including (but not limited to) husbandry, maintenance, and transportation, at the Miller Park Zoo.

Permit TE-24625A

Applicant: Wendy Leonard, San Antonio, Texas.

Applicant requests a new permit for research and recovery purposes to conduct presence/absence surveys for golden-cheeked warbler (Dendroica chrysoparia) and black-capped vireo (Vireo atricapilla) within Texas.

Permit TE-088197

Applicant: High Mesa Research, Valdez, New Mexico.

Applicant requests an amendment to a current permit for research and recovery purposes to conduct presence/absence surveys for southwestern willow flycatcher (Empidonax trailii extimus) within Arizona, California, Colorado, Utah, and Nevada.

Permit TE-821577

Permittee: Arizona Game and Fish Department, Phoenix, Arizona.

The Service is amending Arizona Game and Fish Department's current permit for research and recovery purposes for the range of activities they undertake, including, but not limited to presence/absence surveys, research, and reestablishment of the following species within Arizona and adjacent portions of California, Nevada, Utah, and New Mexico: Kanab ambersnail (Oxyloma haydeni kanabensis), Mexican long-nosed bat (Leptonycteris nivalis), masked bobwhite (Colinus virginianus ridgwayi), bonytail chub (Gila elegans), Gila chub (Gila intermedia), humpback chub (Gila cypha), Colorado pikeminnow (Ptychocheilus lucius), Quitobaquito pupfish (Cyprinodon eremus), Virgin River chub (Gila seminuda), woundfin (Plagopterus argentissimus),Yaqui chub (Gila purpurea), Yaqui topminnow (Poeciliopsis occidentalis sonoriensis), California condor (Gymnogyps californianus), thick-billed parrot (Rhynchopsitta pachyrhyncha), black-footed ferret (Mustela nigripes), southwestern willow flycatcher (Empidonax traillii extimus), jaguar (Pathera onca), ocelot (Leopardus pardalis), desert pupfish (Cyprinodon macularius), Sonoran tiger salamander (Ambystoma tigrinum stebbinsi), Mount Graham red squirrel (Tamiasciurus hudsonicus grahamensis), razorback sucker (Xyrauchen texanus), Gila topminnow (Poeciliopsis occidentalis), and Hualapai Mexican vole (Microtus mexicanus hualpaiensis).

Permit TE-25446A

Applicant: Gerald Monks, Flagstaff, Arizona.

Applicant requests a new permit for research and recovery purposes to conduct presence/absence surveys for southwestern willow flycatcher (Empidonax trailii extimus) and Yuma clapper rail (Rallus longirostris yumanensis) within Arizona.

Permit TE-217655

Applicant: Rachel Barlow, Manchaca, Texas.

Applicant requests an amendment to a current permit for research and recovery purposes to conduct presence/absence surveys for golden-cheeked warbler (Dendroica chrysoparia) and black-capped vireo (Vireo atricapilla) within Texas.

Permit TE-25609A

Applicant: The Peregrine Fund, Boise, Idaho.

Applicant requests a new permit for research and recovery purposes for the California condor (Gymnogyps californianus). The applicant intends to captive breed, conduct genetic research, and reintroduce the species to the wild within California, Arizona, Utah, Nevada, New Mexico, and Idaho.

Permit TE-820085

Applicant: The Nature Conservancy, San Antonio, Texas.

Applicant requests an amendment to a current permit for research and recovery purposes to transport, handle, salvage, and collect seeds of the following rare plants: Star cactus (Astrophytum asterius), Johnston's frankenia (Frankenia johnstonii), south Texas ambrosia (Ambrosia cheiranthifolia), Texas ayenia (Ayenia limitaris), black-laced cactus (Echinocereus reichenbachii var. albertii), Zapata bladderpod (Physaria thanmophilia), Walker's manihot (Manihot walkerae), and ashy dogwood (Thymophylla tephroleuca), including propagation and repatriation activities on private and Federal lands in Texas, including The Nature Conservancy's Las Estrellas Preserve.

Permit TE-25736A

Applicant: Regina Overath, Corpus Christi, Texas.

Applicant requests a new permit for research and recovery purposes to conduct presence/absence surveys and collect leaf tissue and seeds from the following endangered plants: South Texas ambrosia (Ambrosia cheiranthifolia), slender rush-pea (Hoffmannseggia tenella), and black lace cactus (Echinocereus reichenbachii var. albertii) within Texas.

Authority: 16 U.S.C. 1531 et seq.

Dated: October 27, 2010.
Joy E. Nicholopoulos,
Regional Director, Southwest Region, Fish and Wildlife Service.

[FR Doc. 2010-27725 Filed 11-2-10; 8:45 am]

BILLING CODE 4310-55-P